FEDERAL RETIREMENT THRIFT INVESTMENT BOARD

Sunshine Act; Notice of Meeting

January 15, 2009.

Time and Date: 9 a.m. (Eastern Time).

Place: 4th Floor Conference Room, 1250 H Street, NW., Washington, DC 20005.

Status: Parts will be open to the public and parts closed to the public.

Matters To Be Considered

Parts Open to the Public

1. Approval of the minutes of the December 15, 2008 Board member meeting.

2. Thrift Savings Plan activity report by the Executive Director.

a. Monthly Participant Activity Report.

b. Legislative Report.

c. Office of Participant Services Report.

3. Quarterly Reports.

a. Investment Policy Review.

b. Vendor Financial Reports.

c. MetLife Annuity Report.

4. Audit of Computer Access and Technical Security Controls.

Parts Closed to the Public

5. Confidential Financial Information.

6. Security.

Contact for More Information: Thomas J. Trabucco, Director, Office of External Affairs, (202) 942-1640.

Dated: January 8, 2009.
Thomas K. Emswiler,
Secretary, Federal Retirement Thrift Investment Board.

[FR Doc. E9-558 Filed 1-9-09; 11:15 am]

BILLING CODE 6760-01-P